ENVIRONMENTAL PROTECTION AGENCY

[ER-FRL-9035-7]

Environmental Impact Statements; Notice of Availability

Responsible Agency: Office of Federal Activities, General Information (202) 564-7146 or http://www2.epa.gov/nepa/.

Weekly receipt of Environmental Impact Statements (EIS)

Filed 10/09/2017 Through 10/13/2017

Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20170199, Final, FAA, CO, Adoption—Pinon Canyon Maneuver Site Training and Operations, Contact: Paula Miller (202) 267-7378

EIS No. 20170203, Final, USACE, KS, Kansas River Commercial Dredging, Review Period Ends: 11/20/2017, Contact: Brian Donahue (816) 389-3703

EIS No. 20170204, Draft, USFS, OR, Hwy 46 Project, Comment Period Ends: 12/04/2017, Contact: Lynise Medley (503) 854-4228

EIS No. 20170205, Final, BLM, AZ, Sonoran Desert National Monument Target Shooting Proposed Resource Management Plan Amendment, Review Period Ends: 11/20/2017, Contact: Wayne Monger (623) 580-5683

EIS No. 20170206, Draft, FHWA, WA, Washington State Convention Center Addition and King County Site Work, Comment Period Ends: 12/04/2017, Contact: Sharon P. Love (360) 753-9558

EIS No. 20170207, Draft, USFS, IL, Cretaceous Hills Ecological Restoration Project, Comment Period Ends: 12/19/2017, Contact: Leonard Pitcher (618) 833-8576 ext. 116

Dated: October 17, 2017.
Kelly Knight,
Director, NEPA Compliance Division, Office of Federal Activities.

[FR Doc. 2017-22854 Filed 10-19-17; 8:45 am]

BILLING CODE 6560-50-P